DEPARTMENT OF ENERGY

Federal Energy Regulatory Commission

Combined Notice of Filings

Take notice that the Commission has received the following Natural Gas Pipeline Rate and Refund Report filings:

Filings Instituting Proceedings

Docket Numbers: RP22-193-000.

Applicants: Equitrans, L.P.

Description: Compliance filing: Compliance Filing—Order No. 587-Z to be effective 6/1/2022.

Filed Date: 11/8/21.

Accession Number: 20211108-5049.

Comment Date: 5 p.m. ET 11/22/21.

Docket Numbers: RP22-194-000.

Applicants: Rager Mountain Storage Company LLC.

Description: Compliance filing: Compliance Filing—Order No. 587-Z to be effective 6/1/2022.

Filed Date: 11/8/21.

Accession Number: 20211108-5050.

Comment Date: 5 p.m. ET 11/22/21.

Docket Numbers: RP22-195-000.

Applicants: USG Pipeline Company, LLC.

Description: Compliance filing: Order No. 587-Z Compliance Filing to be effective 6/1/2022.

Filed Date: 11/8/21.

Accession Number: 20211108-5069.

Comment Date: 5 p.m. ET 11/22/21.

Docket Numbers: RP22-196-000.

Applicants: Equitrans, L.P.

Description: § 4(d) Rate Filing: Negotiated Rate Agreement Effective 11/1/2021 to be effective 11/1/2021.

Filed Date: 11/8/21.

Accession Number: 20211108-5164.

Comment Date: 5 p.m. ET 11/22/21.

Docket Numbers: RP22-197-000.

Applicants: KO Transmission Company.

Description: Compliance filing: KO—Order No. 587-Z Compliance Filing to be effective 6/1/2022.

Filed Date: 11/8/21.

Accession Number: 20211108-5210.

Comment Date: 5 p.m. ET 11/22/21.

Docket Numbers: RP22-198-000.

Applicants: Panhandle Eastern Pipe Line Company, LP.

Description: Compliance filing: NAESB 3.2 Compliance to be effective 6/1/2022.

Filed Date: 11/9/21.

Accession Number: 20211109-5067.

Comment Date: 5 p.m. ET 11/22/21.

Docket Numbers: RP22-199-000.

Applicants: Trunkline Gas Company, LLC.

Description: Compliance filing: NAESB 3.2 Compliance to be effective 6/1/2022.

Filed Date: 11/9/21.

Accession Number: 20211109-5070.

Comment Date: 5 p.m. ET 11/22/21.

Docket Numbers: RP22-200-000.

Applicants: Rover Pipeline LLC.

Description: Compliance filing: NAESB 3.2 Compliance to be effective 6/1/2022.

Filed Date: 11/9/21.

Accession Number: 20211109-5071.

Comment Date: 5 p.m. ET 11/22/21.

Docket Numbers: RP22-201-000.

Applicants: Sea Robin Pipeline Company, LLC.

Description: Compliance filing: NAESB 3.2 Compliance to be effective 6/1/2022.

Filed Date: 11/9/21.

Accession Number: 20211109-5074.

Comment Date: 5 p.m. ET 11/22/21.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

Filings in Existing Proceedings

Docket Numbers: RP21-1023-001.

Applicants: Pine Prairie Energy Center, LLC.

Description: Compliance filing: MBR Authority Info Notice, Compliance Dkt. No. RP21-1023-000 to be effective N/A.

Filed Date: 11/8/21.

Accession Number: 20211108-5000.

Comment Date: 5 p.m. ET 11/22/21.

Docket Numbers: RP21-1024-001

Applicants: SG Resources Mississippi, L.L.C.

Description: Compliance filing: MBR Authority Info Notice, Compliance Dkt. No. RP21-1024-000 to be effective N/A.

Filed Date: 11/8/21.

Accession Number: 20211108-5001.

Comment Date: 5 p.m. ET 11/22/21.

Docket Numbers: RP21-1025-001.

Applicants: Cadeville Gas Storage LLC.

Description: Compliance filing: MBR Authority Info Notice, Compliance Dkt. No. RP21-1025-000 to be effective N/A.

Filed Date: 11/5/21.

Accession Number: 20211105-5187.

Comment Date: 5 p.m. ET 11/17/21.

Docket Numbers: RP21-1026-001.

Applicants: Monroe Gas Storage Company, LLC.

Description: Compliance filing: MBR Authority Info Notice, Compliance Dkt. No. RP21-1026-000 to be effective N/A.

Filed Date: 11/5/21.

Accession Number: 20211105-5199.

Comment Date: 5 p.m. ET 11/17/21.

Docket Numbers: RP21-1027-001.

Applicants: Perryville Gas Storage LLC.

Description: Compliance filing: MBR Authority Info Notice, Compliance Dkt. No. RP21-1027-000 to be effective N/A.

Filed Date: 11/5/21.

Accession Number: 20211105-5202.

Comment Date: 5 p.m. ET 11/17/21.

Docket Numbers: RP21-1126-000.

Applicants: Portland Natural Gas Transmission System.

Description: Report Filing: CP20-16-000—WXP Notification of Commencement November 1, 2021 to be effective N/A.

Filed Date: 11/5/21.

Accession Number: 20211105-5108.

Comment Date: 5 p.m. ET 11/17/21.

Any person desiring to protest in any the above proceedings must file in accordance with Rule 211 of the Commission's Regulations (18 CFR 385.211) on or before 5:00 p.m. Eastern time on the specified comment date.

The filings are accessible in the Commission's eLibrary system (https://elibrary.ferc.gov/idmws/search/fercgensearch.asp) by querying the docket number.

eFiling is encouraged. More detailed information relating to filing requirements, interventions, protests, service, and qualifying facilities filings can be found at: http://www.ferc.gov/docs-filing/efiling/filing-req.pdf. For other information, call (866) 208-3676 (toll free). For TTY, call (202) 502-8659.

Dated: November 09, 2021.
Debbie-Anne A. Reese,
Deputy Secretary.

[FR Doc. 2021-24986 Filed 11-15-21; 8:45 am]

BILLING CODE 6717-01-P